ENVIRONMENTAL PROTECTION AGENCY

40 CFR Part 52

[CA-314-0483; FRL-7975-7]

Approval and Promulgation of State Implementation Plans for Air Quality Planning Purposes; California—South Coast and Coachella

AGENCY: Environmental Protection Agency (EPA).

ACTION: Final rule.

SUMMARY: EPA is taking final action to approve state implementation plan (SIP) revisions submitted by the State of California to provide for attainment of the particulate matter (PM-10) national ambient air quality standards (NAAQS) in the Los Angeles-South Coast Air Basin and the Coachella Valley Area, and to establish emissions budgets for these areas for purposes of transportation conformity. EPA is also approving revisions to fugitive dust regulations and ordinances for the areas. EPA is approving these SIP revisions under provisions of the Clean Air Act (CAA) regarding EPA action on SIP submittals, SIPs for national primary and secondary ambient air quality standards, and plan requirements for nonattainment areas.

DATES: This rule is effective on December 14, 2005.

ADDRESSES: You can inspect copies of the docket for this action at EPA's Region IX office during normal business hours by appointment at the following location: EPA Region IX, 75 Hawthorne Street, San Francisco, CA 94105-3901. A reasonable fee may be charged for copying parts of the docket.

Copies of the SIP materials are also available for inspection at the following locations: California Air Resources Board, 1001 I Street, Sacramento, California, 95812. South Coast Air Quality Management District, 21865 E. Copley Drive, Diamond Bar, California, 91765.

The 2003 Air Quality Management Plan, which includes the South Coast PM10 plan, is electronically available at: http://www.aqmd.gov/aqmp/AQMD03AQMP.htm

The 2003 Coachella Valley PM10 State Implementation Plan is at: http://www.aqmd.gov/aqmp/docs/f2003cvsip.pdf

The fugitive dust rules are at: http://www.aqmd.gov/rules/rulesreg.html

FOR FURTHER INFORMATION CONTACT: Dave Jesson, EPA Region IX, at (415) 972-3957, or jesson.david@epa.gov.

SUPPLEMENTARY INFORMATION: Throughout this document, “we,” “us,” and “our” refer to EPA.

Table of Contents

I. Summary of Proposed Action

II. Public Comments

III. EPA Action

IV. Administrative Requirements

I. Summary of Proposed Action

On July 28, 2005 (70 FR 43663), we proposed to approve 2003 plan amendments for the South Coast Air Basin (or “South Coast”), as the plan amendments pertain to attainment of the 24-hour and annual PM-10 NAAQS.¹ We also proposed to approve revisions to the PM-10 plan for the Coachella Valley Planning Area (“Coachella Valley”).² We proposed to approve the plans” PM-10 motor vehicle emissions budgets for purposes of transportation conformity. Finally, we proposed to approve revisions to Rules 403, 403.1, and 1186 of the South Coast Air Quality Management District (SCAQMD) regulating fugitive dust emissions, and revised fugitive dust ordinances for Coachella Valley jurisdictions. These revisions update, improve, strengthen, and supplement the approved SIP provisions for control of PM-10 and PM-10 precursors in the two areas.

¹ The nonattainment area includes all of Orange County and the more populated portions of Los Angeles, San Bernardino, and Riverside Counties. For a description of the boundaries of the Los Angeles-South Coast Air Basin Area, see 40 CFR 81.305.

² The Coachella Valley Planning Area is in central Riverside County in the Salton Sea Air Basin. The boundary is defined at 40 CFR 81.305.

Our proposal was based on the following SIP submittals by the State of California:

(1) That portion of the 2003 South Coast Air Quality Management Plan (“2003 South Coast AQMP”), including motor vehicle emissions budgets, adopted by the SCAQMD on August 1, 2003, and submitted to us on January 9, 2004, that pertains to PM-10;

(2) the 2003 Coachella Valley PM10 State Implementation Plan (“2003 Coachella Valley Plan”), including motor vehicle emissions budgets, adopted by the SCAQMD on August 1, 2003, and submitted to us on January 9, 2004;

(3) revisions to Rules 403, 403.1, and 1186, adopted by SCAQMD on April 2, 2004, and submitted by CARB on July 29, 2004;

(4) revisions to the implementation handbooks for Rules 403 and 403.1, adopted by SCAQMD on April 2, 2004, and submitted by CARB on November 16, 2004; and

(5) revised Coachella Valley ordinances, which were adopted by the local jurisdictions on various dates in 2003 and 2004, and submitted by CARB on November 16, 2004.

Our proposal contains detailed information on these SIP submittals and our evaluation of the submittals against applicable CAA provisions and EPA policies relating to serious area PM-10 SIPs.

II. Public Comments

We received two public comments. The first comment was from SCAQMD (e-mail from Jill Whynot, dated August 26, 2005), requesting that we annotate Table 1 (“South Coast PM-10 Control Measures”), with a footnote updating information on certain of the measures, and Table 2 (“South Coast Emission Reduction Commitments), with a footnote providing an update on the implementation of measure CMB-07. We have inserted new footnote 3 in Table 1 and new footnote 1 in Table 2, below, as requested by SCAQMD.

With respect to the note on Table 1, the SCAQMD referenced material provided on Agenda Item #39 for the December 3, 2004 Governing Board meeting.³ The PRC-03 emission reduction commitment for under-fired charbroilers was projected to be 0.2 tons per day (tpd) of PM-10 by 2006 and 1.0 tpd by 2010. Substitute reductions come from the implementation of Rules 1186 and 403. The reductions in excess of the AQMP commitment are estimated to be 0.7 tpd starting in 2005 for Rule 403 and 0.28 tpd for Rule 1186 starting in 2006, for a total of 0.98 tpd of PM-10. With growth factors applied, the reduction is estimated to be 1.04 tpd of PM-10 in 2010. Emission reductions from these two rules are not counted in the 2003 South Coast AQMP, and thus 0.28 tpd in 2006 and 1.0 tpd of PM-10 reductions in 2010 may be substituted for the SIP commitment for PRC-03. This ensures that the plan will continue to meet the requirements for reasonable further progress and attainment.

³ This supplemental information is incorporated in the Docket for this rulemaking and it is also available electronically at: http://www.aqmd.gov/hb/2004/041239a.html

Table 1.—South Coast PM-10 Control Measures
[Source: South Coast 2003 AQMP, Appendix IV-A]
Control measure No. | Control measure title | 2006 reduction target in tons per day
Remaining 2002 SIP Control Measures
CMB-07 | Emission Reductions from Petroleum Refinery Flares (SOx) | 2.1
CMB-09 ¹ | Petroleum Refinery Fluid Catalytic Cracking Units (PM-10, NH3) | 0.1, 0
WST-01 ¹ | Emission Reductions from Livestock Waste (VOC, NH3) | 4.2, 8.7
WST-02 ¹ | Emission Reductions from Composting (VOC, NH3) | 1.2, 1.9
PRC-03 (P2) | Emission Reductions from Restaurant Operations (PM-10) ³ | 0.2
New Control Measures
BCM-07 ¹ | Further PM10 Reductions from Fugitive Dust Sources (PM-10) | TBD
BCM-08 ¹ | Further Emission Reductions from Aggregate and Cement Manufacturing Operations (PM-10) | 0.6
MSC-04 | Miscellaneous Ammonia Sources (NH3) | TBD
MSC-06 | Wood-Burning Fireplaces and Wood Stoves (PM-10) | TBD
TCB-01 ² | Transportation Conformity Backstop Measure (PM-10) | 0
¹ These measures have already been adopted by SCAQMD. Revisions to Rules 403 and 1186 fulfill BCM-07; new Rule 1127 (Emission Reductions from Livestock Waste, adopted 8/6/04) addresses WST-01; new Rule 1133.2 (Emission Reductions from Co-Composting Operations, adopted 1/10/03) responds to WST-02 commitments; new Rule 1105.1 (Reduction of PM-10 and Ammonia Emissions from Fluid Catalytic Cracking Units, adopted 11/7/03) meets the CMB-09 commitment; and new Rule 1157 (PM-10 Emissions Reductions from Aggregate and Related Operations, adopted 1/07/05) fulfills the BCM-08 commitment.
² This measure, which is intended to achieve reductions in PM-10 after the 2006 attainment date, is discussed below and in Section II.G., Motor Vehicle Emission Budgets.
³ In December 2004, the SCAQMD Governing Board made a finding at a public hearing that further reductions for this category were infeasible at this time. Emission reductions from Rules 403—Fugitive Dust, and 1186—PM-10 Emissions from Paved and Unpaved Roads, and Livestock Operations, were substituted for the emission reduction commitments for PRC-03.

Table 2.—South Coast Emission Reduction Commitments—Commitments To Adopt and Implement New Measures To Achieve Emission Reductions in Tons per Day From 2010 Planning Inventory
[Source: South Coast 2003 AQMP, Table 4-8A]
Year | VOC: Adopt | VOC: Impl | PM-10: Adopt | PM-10: Impl | NOX: Adopt | NOX: Impl | SOX¹: Adopt | SOX¹: Impl
2004 | 2.0 | 0 | 1.7 | 0 | 3.0 | 0 | 2.1 | 0
2005 | 2.0 | 0 | 0 | 0.16 | 2.1 | 0 | 0 | 2.1
2006 | 0 | 4.8 | 0 | 0.86 | 0 | 0 | 0 | 0
¹ Compliance reports from the current version of Rule 1118—Emissions from Refinery Flares, show that these emission reductions have already been achieved since 2003. Amendments to Rule 1118 currently being developed, and scheduled for consideration by the SCAQMD Governing Board in 2005, would maintain the current reductions and seek additional reductions.

As noted in our proposal, the 2003 Coachella Valley Plan contains no new control measure commitments, but relies on the adopted revisions to Rules 403 and 403.1 and the local ordinances.

The second comment was from CARB (letter from Cynthia Marvin, dated August 29, 2005). CARB pointed out that Table 8 (“Proposed Approvals of South Coast and Coachella Valley PM-10 Attainment Plan Submittals”) contains a typographical error, in referencing contingency measure CTY-04. We have corrected this error in Table 3 (“Approvals of South Coast and Coachella Valley PM-10 Attainment Plan Submittals”) in section III below, by indicating that the approved contingency measure is CTY-14.

CARB also asked that we note that the 2003 South Coast AQMP description of contingency measures CTY-01—Accelerated Implementation of Control Measures, and TCB-01—Transportation Conformity Budget Backstop Measure incorrectly lists CARB as an implementing agency. We have added a new footnote 1 to Table 3 below, to indicate that these two contingency measures do not apply to CARB.

III. EPA Action

In this document, we are finalizing the actions on the submittals referenced above. We are approving revisions to SCAQMD Rules 403 (except for subdivision h), 403.1 (except for subdivision j), and 1186 regulating fugitive dust emissions; revisions to the implementation handbooks for the rules (Rule 403 Implementation Handbook, Chapters 5, 7, and 8; Rule 403 Coachella Valley Agricultural Handbook; Rule 403.1 Implementation Handbook, Chapters 2, 3, 4, and 7); and revisions to the fugitive dust ordinances for 10 Coachella Valley jurisdictions. These revisions update, improve, strengthen, supplement, and replace the SIP provisions for control of PM-10 and PM-10 precursors in the two areas.

We are approving the 2003 plan amendments to the 2002 SIPs for the South Coast and Coachella Valley serious nonattainment areas, as the plan amendments pertain to CAA provisions applicable to attainment SIPs for the 24-hour and annual PM-10 NAAQS. Specifically, we are approving under section 110(k)(3) the PM-10 portions of the 2003 South Coast AQMP and the 2003 Coachella Valley Plan with respect to the CAA requirements for emissions inventories under section 172(c)(3); control measures, as meeting the requirements of sections 110(a), 188(e), and 189(b)(1)(B); reasonable further progress under section 189(c)(1); contingency measures under section 172(c)(9); demonstration of attainment under section 189(b)(1)(A); and motor vehicle emissions budgets under section 176(c)(2)(A).

The South Coast and Coachella Valley budgets are displayed in our proposed approval as tables 6 and 7 respectively, at 70 FR 43672. We have previously determined that these budgets are adequate (see 69 FR 15325, March 25, 2004), following posting of the budgets on EPA's conformity Web site: http://www.epa.gov/ otaq/transp/conform/ reg9sips.htm.

We show the plan approvals in Table 3—“Approvals of South Coast and Coachella Valley PM-10 Attainment Plan Submittals.”

Table 3.—Approvals of South Coast and Coachella Valley PM-10 Attainment Plan Submittals
CAA Section | Provision | Plan Citation: South Coast | Plan Citation: Coachella Valley
172(c)(3) | Emission Inventories | 2003 South Coast AQMP, Chapter 3 (Tables 3-1A and 3-3A); Appendix III (Tables A-1, A-2, A-3, A-5, and A-7); and Appendix V (Attachment 4) | 2003 Coachella Valley Plan, Tables 2-2, 2-3, 2-4, and 2-5.
110(a), 188(e), and 189(b)(1)(B) | Control Measures | Table 1 (derived from 2003 South Coast AQMP, Appendix IV-A) and Table 2 (derived from 2003 South Coast AQMP, Table 4-8A) | No new measures.
172(c)(2), 189(c)(1) | Reasonable Further Progress | 2003 South Coast AQMP, Table 6-1 | Table 5 at 70 FR 43671 (derived from 2003 Coachella Valley Plan, Tables 2-9 and 2-7).
172(c)(9) | Contingency Measures | 2003 South Coast AQMP, Appendix IV-A, Section 2 (CTY-01, CTY-14, TCB-01)¹ | No new measures.
189(b)(1)(A) | Attainment Demonstration | 2003 South Coast AQMP, Chapter 5; Appendix V, Chapter 2 | 2003 Coachella Valley Plan, Chapter 3.
176(c)(2)(A) | Motor Vehicle Emissions Budgets | Table 6 at 70 FR 43672 (derived from “2003 South Coast AQMP On-Road Motor Vehicle Emissions Budgets”) | Table 7 at (derived 70 FR 43672 from “2003 Coachella Valley PM-10 SIP On-Road Motor Vehicle Emissions Budgets”).
¹ The contingency measures do not contain a commitment by CARB.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

List of Subjects in 40 CFR Part 52

Environmental protection, Air pollution control, Intergovernmental relations, Nitrogen dioxide, Particulate matter, Reporting and recordkeeping requirements, Volatile organic compounds.

Dated: September 16, 2005.
Laura Yoshii,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(333)(i)(A)(2), (c)(339), and (c)(340) to read as follows:

§ 52.220 Identification of plan.

* * * * *

(c) * * *

(333) * * *

(i) * * *

(A) * * *

(2) Amended Rules 403 (except for subdivision h), 403.1 (except for subdivision j), and 1186, as adopted on April 2, 2004.

* * * * *

(339) New and amended plans for the following agency were submitted on January 9, 2004, by the Governor's designee.

(i) Incorporation by reference.

(A) South Coast Air Quality Management District (SCAQMD).

(1) South Coast 2003 Air Quality Management Plan (AQMP), as adopted by SCAQMD on August 1, 2003, and by California Air Resources Board on October 23, 2003.

(i) Baseline and projected emissions inventories in AQMP Chapter III Tables 3-1A and 3-3A, in Appendix III Tables A-1, A-2, A-3, A-5, and A-7, and in Appendix V Attachment 4; SCAQMD commitment to adopt and implement control measures CMB-07, CMB-09, WST-01, WST-02, PRC-03, BCM-07, BCM-08, MSC-04, MSC-06, TCB-01 in AQMP Chapter 4 Table 4-8A, and in Appendix IV-A); PM-10 reasonable further progress in AQMP Chapter 6, Table 6-1 and in Appendix V Chapter 2; contingency measures CTY-01, CTY-14, TCB-01 in Appendix IV-A Section 2; PM-10 attainment demonstration in AQMP Chapter 5, and in Appendix V Chapter 2; and motor vehicle emissions budgets in “2003 South Coast AQMP On-Road Motor Vehicle Emissions Budgets.”

(2) 2003 Coachella Valley PM-10 State Implementation Plan, as adopted by SCAQMD on August 1, 2003, and by California Air Resources Board on October 23, 2003.

(i) Baseline and projected emissions inventories in Tables 2-2, 2-3, 2-4, and 2-5; reasonable further progress in Tables 2-9 and 2-7; attainment demonstration in Chapter 3; and motor vehicle emissions budgets in “2003 Coachella Valley PM-10 SIP On-Road Motor Vehicle Emissions Budgets.”

* * * * *

(340) New and amended rules for the following agencies were submitted on November 16, 2004, by the Governor's designee.

(i) Incorporation by reference.

(A) South Coast Air Quality Management District (SCAQMD).

(1) Amended Handbooks for Rules 403 (Chapters 5, 7, and 8) and 403.1 (Chapters 2, 3, 4, and 7), as adopted on April 2, 2004.

(B) Plan revisions for the Coachella Valley Planning Area.

(1) Fugitive dust control ordinances for: City of Cathedral City Ordinance No. 583 (1/14/04), City of Coachella Ordinance No. 896 (10/8/03), City of Desert Hot Springs Ordinance No. 2003-16 (10/7/03), City of Indian Wells Ordinance No. 545 (11/6/03), City of Indio Ordinance No. 1357 (12/3/03), City of La Quinta Ordinance No. 391 (12/2/03), City of Palm Desert Ordinance No. 1056 (11/13/03), City of Palm Springs Ordinance No. 1639 (11/5/03), City of Rancho Mirage Ordinances No. 855 (12/18/03) and No. 863 (4/29/04), and County of Riverside Ordinance No. 742.1 (1/13/04).

[FR Doc. 05-22463 Filed 11-10-05; 8:45 am]

BILLING CODE 6560-50-P